DEPARTMENT OF ENERGY

Federal Energy Regulatory Commission

[Docket No. EL21-79-000]

Illinois Municipal Electric Agency v. PJM Interconnection, L.L.C.; Notice of Complaint

Take notice that on May 28, 2021, pursuant to sections 206, 306, and 309 of the Federal Power Act, 16 U.S.C. 824e, 825e, and 825h and Rule 206 of the Federal Energy Regulatory Commission's (Commission) Rules of Practice and Procedure, 18 CFR 385.206, Illinois Municipal Electric Agency (IMEA or Complainant) filed a formal complaint against PJM Interconnection, L.L.C. (PJM or Respondent), requesting that PJM properly administer the payment of Incremental Capacity Transfer Rights to IMEA without reduction in the 2021/2022 Delivery Year and future Delivery Years, in accordance with PJM's Open Access Transmission Tariff and in a just and reasonable manner, all as more fully explained in its complaint.

The Complainant certify that copies of the complaint were served on the contacts listed for Respondent in the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainant.

The Commission strongly encourages electronic filings of comments, protests and interventions in lieu of paper using the “eFiling” link at http://www.ferc.gov. Persons unable to file electronically may mail similar pleadings to the Federal Energy Regulatory Commission, 888 First Street NE, Washington, DC 20426. Hand delivered submissions in docketed proceedings should be delivered to Health and Human Services, 12225 Wilkins Avenue, Rockville, Maryland 20852.

In addition to publishing the full text of this document in the Federal Register, the Commission provides all interested persons an opportunity to view and/or print the contents of this document via the internet through the Commission's Home Page (http://www.ferc.gov) using the “eLibrary” link. Enter the docket number excluding the last three digits in the docket number field to access the document. At this time, the Commission has suspended access to the Commission's Public Reference Room, due to the proclamation declaring a National Emergency concerning the Novel Coronavirus Disease (COVID-19), issued by the President on March 13, 2020. For assistance, contact the Federal Energy Regulatory Commission at FERCOnlineSupport@ferc.gov, or call toll-free, (886) 208-3676 or TTY, (202) 502-8659.

Comment Date: 5:00 p.m. Eastern Time on June 17, 2021.

Dated: June 2, 2021.
Debbie-Anne A. Reese,
Deputy Secretary.

[FR Doc. 2021-11995 Filed 6-7-21; 8:45 am]

BILLING CODE 6717-01-P